DEPARTMENT OF ENERGY

Federal Energy Regulatory Commission

[Docket Nos., EG23-53-000, EG23-54-000, EG23-55-000, EG23-56-000, EG23-57-000, EG23-58-000, EG23-59-000, EG23-60-000, EG23-61-000, EG23-62-000, EG23-63-000, EG23-64-000, EG23-65-000, EG23-66-000, EG23-67-000, EG23-68-000, EG23-69-000, EG23-70-000, EG23-71-000, EG23-72-000, EG23-73-000, EG23-74-000, EG23-75-000, EG23-76-000, EG23-77-000, EG23-78-000]

Pike Solar, LLC; Black Mesa Energy, LLC; Wildflower Solar, LLC; 92JT 8ME, LLC; Cavalry Energy Center, LLC; Dunns Bridge Energy Storage, LLC; Big Plain Solar, LLC; Oak Trail Solar, LLC; Westlands Solar Blue (OZ) Owner, LLC; Rodeo Ranch Energy Storage, LLC; Sonoran Solar Energy, LLC; Saint Energy Storage II, LLC; Storey Energy Center, LLC; Texas Solar Nova 1, LLC; Chevelon Butte RE LLC; White Trillium Solar, LLC; Second Division Solar, LLC; Starr Solar Ranch, LLC; Prairie Ronde Solar Farm, LLC; Honeysuckle Solar, LLC; Wolfskin Solar; LLC Bird Dog Solar, LLC; Hobnail Solar, LLC; Blackwater Solar, LLC; Nevada Cogeneration Associates #1; Goleta Energy Storage, LLC; Notice of Effectiveness of Exempt Wholesale Generator Status

Take notice that during the month of March 2023, the status of the above-captioned entities as Exempt Wholesale Generators became effective by operation of the Commission's regulations. 18 CFR 366.7(a) (2022).

Dated: April 5, 2023.
Debbie-Anne A. Reese,
Deputy Secretary.

[FR Doc. 2023-07584 Filed 4-10-23; 8:45 am]

BILLING CODE 6717-01-P